NUCLEAR REGULATORY COMMISSION

Appointments to Performance Review Boards for Senior Executive Service

AGENCY: Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level employees:

Bruce A. Boger, Associate Director for Operating Reactor Oversight and Licensing, Office of Nuclear Reactor Regulation.

R. William Borchardt, Deputy Director, Office of Nuclear Security and Incident Response.

Samuel J. Collins, Regional Administrator, Region I.

Karen D. Cyr, General Counsel.

Jesse L. Funches, Chief Financial Officer.

William F. Kane, Deputy Executive Director for Reactor and Preparedness Programs, Office of the Executive Director for Operations.

Bruce S. Mallett, Regional Administrator, Region IV.

Luis A. Reyes, Executive Director for Operations.

Jacqueline E. Silber, Deputy Executive Director for Information Services and Administration and Chief Information Officer.

Jack R. Strosnider, Director, Office of Nuclear Material Safety and Safeguards.

Annette L. Vietti-Cook, Secretary of the Commission.

Martin J. Virgilio, Deputy Executive Director for Materials, Research, State and Compliance Programs.

James T. Wiggins, Deputy Director, Office of Nuclear Regulatory Research.

The following individuals will serve as members of the NRC PRB Panel that was established to review appraisals and make recommendations to the appointing and awarding authorities for NRC PRB members:

Stephen G. Burns, Deputy General Counsel, Office of the General Counsel.

Brian W. Sheron, Director, Office of Nuclear Regulatory Research.

Roy P. Zimmerman, Director, Office of Nuclear Security and Incident Response.

All appointments are made pursuant to Section 4314 of Chapter 43 of Title 5 of the United States Code.

DATES: Effective Date: November 6, 2006.

FOR FURTHER INFORMATION CONTACT: Secretary, Executive Resources Board, U.S. Nuclear Regulatory Commission, Washington, DC 20555; (301) 415-7530.

Dated at Rockville, Maryland, this 14th day of August, 2006.
For the Nuclear Regulatory Commission.
Carolyn J. Swanson,
Secretary, Executive Resources Board.

[FR Doc. E6-18630 Filed 11-3-06; 8:45 am]

BILLING CODE 7590-01-P